Title 3—

The President

Proclamation 10509 of December 23, 2022

To Take Certain Actions Under the African Growth and Opportunity Act and for Other Purposes

By the President of the United States of America

A Proclamation

1. In Proclamation 7853 of December 10, 2004, the President designated Burkina Faso as a beneficiary sub-Saharan African country for purposes of section 506A(a)(1) of the Trade Act of 1974, as amended (the “Trade Act”), as added by section 111(a) of the African Growth and Opportunity Act (the “AGOA”) (title I of Public Law 106-200, 114 Stat. 251, 257-58 (19 U.S.C. 2466a(a)(1))).

2. Section 506A(a)(3) of the Trade Act (19 U.S.C. 2466a(a)(3)) provides that the President shall terminate the designation of a country as a beneficiary sub-Saharan African country for purposes of section 506A if the President determines that the country is not making continual progress in meeting the requirements described in section 506A(a)(1) of the Trade Act.

3. Pursuant to section 506A(a)(3) of the Trade Act, I have determined that Burkina Faso does not meet the requirements described in section 506A(a)(1) of that Act. Accordingly, I have decided to terminate the designation of Burkina Faso as a beneficiary sub-Saharan African country for purposes of section 506A of the Trade Act, effective January 1, 2023.

4. On April 22, 1985, the United States and Israel entered into the Agreement on the Establishment of a Free Trade Area between the Government of the United States of America and the Government of Israel (USIFTA), which the Congress approved in section 3 of the United States-Israel Free Trade Area Implementation Act of 1985 (the “USIFTA Implementation Act”) (Public Law 99-47, 99 Stat. 82 (19 U.S.C. 2112 note)). Section 4(b) of the USIFTA Implementation Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA. In order to maintain the general level of reciprocal and mutually advantageous concessions with respect to agricultural trade with Israel, on July 27, 2004, the United States entered into an agreement with Israel concerning certain aspects of trade in agricultural products during the period January 1, 2004, through December 31, 2008 (United States-Israel Agreement Concerning Certain Aspects of Trade in Agricultural Products (the “2004 Agreement”)).

5. In Proclamation 7826 of October 4, 2004, the President determined, pursuant to section 4(b) of the USIFTA Implementation Act and consistent with the 2004 Agreement, that, in order to maintain the general level of reciprocal and mutually advantageous concessions with respect to Israel provided for by the USIFTA, it was necessary to provide duty-free access into the United States through December 31, 2008, for specified quantities of certain agricultural products of Israel. Each year from 2008 through 2021, the United States and Israel entered into agreements to extend the period that the 2004 Agreement was in force for 1-year periods to allow additional time for the two governments to conclude an agreement to replace the 2004 Agreement. To carry out the extension agreements, the President in Proclamations 8334 of December 31, 2008; 8467 of December 23, 2009; 8618 of December 21, 2010; 8770 of December 29, 2011; 8921 of December 20, 2012; 9072 of December 23, 2013; 9223 of December 23, 2014; 9383 of December 21, 2015; 9555 of December 15, 2016; 9687 of December 22, 2017; 9834 of December 21, 2018; 9974 of December 26, 2019; 10128 of December 22, 2020; and 10326 of December 23, 2021, modified the Harmonized Tariff Schedule of the United States (HTS) to provide duty-free access into the United States for specified quantities of certain agricultural products of Israel, each time for an additional 1-year period. On December 8, 2022, the United States entered into an agreement with Israel to extend the period that the 2004 Agreement is in force through December 31, 2023, and to allow for further negotiations on an agreement to replace the 2004 Agreement. Pursuant to section 4(b) of the USIFTA Implementation Act, I have determined that it is necessary, in order to maintain the general level of reciprocal and mutually advantageous concessions with respect to Israel provided for by the USIFTA, to provide duty-free access into the United States through the close of December 31, 2023, for specified quantities of certain agricultural products of Israel, as provided in Annex I of this proclamation.

6. Proclamation 7971 of December 22, 2005, implemented the United States-Morocco Free Trade Agreement (USMFTA) with respect to the United States and, pursuant to section 201 of the United States-Morocco Free Trade Agreement Implementation Act (the “USMFTA Act”) (19 U.S.C. 3805 note), made the staged reductions in rates of duty that the President determined to be necessary or appropriate to carry out or apply articles 2.3, 2.5, 2.6, 4.1, 4.3.9, 4.3.10, 4.3.11, 4.3.13, 4.3.14, and 4.3.15, and the schedule of duty reductions with respect to Morocco set forth in Annex IV of the USMFTA.

7. Section 1205(a) of the Omnibus Trade and Competitiveness Act of 1988 (the “1988 Act”) (19 U.S.C. 3005(a)) directs the United States International Trade Commission (the “Commission”) to keep the HTS under continuous review and periodically to recommend to the President such modifications to the HTS as the Commission considers necessary or appropriate to accomplish the purposes set forth in that subsection. Pursuant to sections 1205(c) and (d) of the 1988 Act (19 U.S.C. 3005(c) and (d)), in 2016 and 2021 the Commission recommended modifications to the HTS to conform the HTS to amendments made to the International Convention on the Harmonized Commodity Description and Coding System and the Protocol thereto (the “Convention”).

8. Section 1206(a) of the 1988 Act (19 U.S.C. 3006(a)) authorizes the President to proclaim modifications to the HTS based on the recommendations of the Commission under section 1205 of the 1988 Act if the President determines that the modifications are in conformity with United States obligations under the Convention and do not run counter to the national economic interest of the United States.

9. Proclamation 9549 of December 1, 2016, and Proclamation 10326 of December 23, 2021, modified the HTS pursuant to section 1206 of the 1988 Act to conform the HTS to the amendments to the Convention. However, the HTS modifications authorized in Proclamation 9549 and Proclamation 10326 included certain technical errors.

10. I have determined that additional modifications to the HTS are necessary or appropriate to carry out the staged reductions in rates of duty previously proclaimed in Proclamation 7971, including certain technical or conforming changes within the tariff schedule.

11. Section 604 of the Trade Act, as amended (19 U.S.C. 2483), authorizes the President to embody in the HTS the substance of the relevant provisions of that Act, and of other acts affecting import treatment, and actions taken thereunder, including the removal, modification, continuance, or imposition of any rate of duty or other import restriction.

NOW, THEREFORE, I, JOSEPH R. BIDEN JR., President of the United States of America, by virtue of the authority vested in me by the Constitution and the laws of the United States of America, including but not limited to section 111(a) of the AGOA, sections 506A(a)(1) and 506A(a)(3) of the Trade Act, section 4(b) of the USIFTA Implementation Act, and section 604 of the Trade Act, as amended, do proclaim that:

(1) The designation of Burkina Faso as a beneficiary sub-Saharan African country for purposes of section 506A of the Trade Act is terminated, effective January 1, 2023.

(2) In order to reflect in the HTS that beginning January 1, 2023, Burkina Faso shall no longer be designated as a beneficiary sub-Saharan African country, general note 16(a) to the HTS is modified by deleting “Burkina Faso” from the list of beneficiary sub-Saharan African countries. Note 7(a) to subchapter II and note 1 to subchapter XIX of chapter 98 of the HTS are each modified by deleting “Burkina Faso,” from the list of beneficiary countries. Further, note 2(d) to subchapter XIX of chapter 98 of the HTS is modified by deleting “Burkina Faso;” from the list of lesser developed beneficiary sub-Saharan African countries.

(3) The modifications to the HTS set forth in paragraphs (1) through (2) of this proclamation shall be effective with respect to goods entered for consumption, or withdrawn from warehouse for consumption, on or after January 1, 2023.

(4) In order to implement tariff commitments under the 2004 Agreement through December 31, 2023, the HTS is modified as set forth in Annex I of this proclamation.

(5) The modifications and technical rectifications to the HTS made by Annex I of this proclamation shall enter into effect on the applicable dates set forth in Annex I of this proclamation.

(6) In order to make the modifications and technical rectifications to the HTS described in clauses 6 through 11 of this proclamation, the HTS is modified as set forth in Annex II of this proclamation. These modifications and technical rectifications shall enter into effect on the applicable dates set forth in Annex II of this proclamation.

(7) Any provisions of previous proclamations and Executive Orders that are inconsistent with the actions taken in this proclamation are superseded to the extent of such inconsistency.

IN WITNESS WHEREOF, I have hereunto set my hand this twenty-third day of December, in the year of our Lord two thousand twenty-two, and of the Independence of the United States of America the two hundred and forty-seventh.

Billing code 3395-F3-P

[FR Doc. 2022-28473

Filed 12-28-22; 8:45 am]

Billing code 7020-02-C